DEPARTMENT OF HOUSING AND URBAN DEVELOPMENT

[Docket No. FR-5683-N-102]

10-Day Notice of Proposed Information Collection: Generic Customer Satisfaction Surveys; Physical Inspection Pilot Program—Solicitation of Interest (Survey)

AGENCY: Office of the Assistant Secretary for Housing—Federal Housing Commissioner, HUD.

ACTION: Notice.

SUMMARY: HUD is seeking approval from the Office of Management and Budget (OMB) for the information collection described below. In accordance with the Paperwork Reduction Act, HUD is requesting comment from all interested parties on the proposed collection of information. The purpose of this notice is to allow for 10 days of public comment.

DATES: Comments Due Date: December 2, 2013.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Adam Hauptman, Program Analyst, Departmental Real Estate Assessment Center, Department of Housing and Urban Development, 451 7th Street SW., Washington, DC 20410; email Adam Hauptman at Adam.P.Hauptman@hud.gov or telephone 202-475-8618. This is not a toll-free number. Persons with hearing or speech impairments may access this number through TTY by calling the toll-free Federal Relay Service at (800) 877-8339.

Copies of available documents submitted to OMB may be obtained from Mr. Hauptman.

SUPPLEMENTARY INFORMATION: This notice informs the public that HUD is seeking approval from OMB for the information collection described in Section A.

A. Overview of Information Collection

Title of Information Collection: Generic Customer Satisfaction Surveys Physical Inspection Alignment Pilot Program—Expansion Announcement.

OMB Approval Number: 2535-0116.

Type of Request: Change Request.

Form Number: N/A.

Description of the need for the information and proposed use: This collection would assist the working group in better understanding the capabilities of state agencies to conduct inspections and their level of interest in participating in an expanded pilot. While candidates to join the pilot could be selected through limited private contact, this announcement creates a more even playing field for states who may wish to participate rather than favoring those states which may have heard about the program through other means. The responses will also be used by the working group to refine our communications, outreach, and training approaches. The working group has received positive feedback from states that the collaboration it facilitates is valuable and is something that they actively seek to participate in.

This is an existing pilot program currently involving less than ten respondents. This information will primarily be used by the working group to improve the administration of the pilot. It will also allow the working group to identify states that might be interested in participating in an expanded 2014 pilot. This information will not be distributed beyond the working group, nor will it be used for any other purpose.

Respondents (i.e. affected public): State housing agencies.

Estimated Number of Respondents: 70.

Estimated Number of Responses: 25.

Frequency of Response: 1 time.

Average Hours per Response: .25 hour.

Total Estimated Burdens: 6.25.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: November 14, 2013.
Colette Pollard,
Department Reports Management Officer, Office of the Chief Information Officer.

[FR Doc. 2013-27697 Filed 11-19-13; 8:45 am]

BILLING CODE 4210-67-P